FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011383-042.

Title: Venezuelan Discussion Agreement.

Parties: Hamburg-Süd, Seaboard Marine Ltd., King Ocean Service de Venezuela, and SeaFreight Line, Ltd.

Filing Party: Wayne R. Rohde, Esq.; Sher & Blackwell LLP; 1850 M Street, NW.; Suite 900; Washington, DC 20036.

Synopsis: The amendment would add Compania Sud Americana de Vapores S.A. as a party to the agreement.

Agreement No.: 012083.

Title: Hanjin/APL Mediterranean Space Charter Agreement.

Parties: American President Lines, Ltd.; and Hanjin Shipping Co., Ltd.

Filing Parties: Eric C. Jeffrey, Esq.; Goodwin Procter LLP; 901 New York Avenue, NW.; Washington, DC 20001.

Synopsis: The agreement authorizes Hanjin to charter space to APL in the trade between the U.S. East Coast and ports in Italy and Spain.

Agreement No.: 012084.

Title: HLAG/Maersk Line Gulf-South America Slot Charter Agreement.

Parties: A.P. Moller-Maersk A/S and Hapag-Lloyd AG.

Filing Party: Wayne R. Rohde, Esq.; Sher & Blackwell LLP; 1850 M Street, NW.; Suite 900; Washington, DC 20036.

Synopsis: The agreement authorizes Hapag-Lloyd to charter space to Maersk Line in the trade between U.S. Gulf Coast ports and ports in Mexico, the Dominican Republic, Brazil, Argentina and Uruguay.

By Order of the Federal Maritime Commission.
Dated: October 16, 2009.
Tanga S. FitzGibbon,
Assistant Secretary.

[FR Doc. E9-25323 Filed 10-20-09; 8:45 am]

BILLING CODE 6730-01-P